DEPARTMENT OF STATE

[Public Notice 5135]

Bureau of Educational and Cultural Affairs (ECA) Request for Grant Proposals: FY2006 International Educators Program

Announcement Type: Cooperative Agreement.

Funding Opportunity Number: ECA/A/S/X-06-03.

Catalog of Federal Domestic Assistance Number: 00.000.

Key Dates:

Application Deadline: September 9, 2005.

Executive Summary: The U.S. Department of State's Bureau of Educational and Cultural Affairs (ECA) and the Office of Global Educational Programs announce an open competition to administer a new semester-long International Educators Program for outstanding secondary-level teachers from Southeast Asia, the Near East, South Asia (except Afghanistan) and Russia. The total grant award for program and administrative purposes is anticipated to be $1,650,000. Public and private non-profit organizations meeting the provisions described in Internal Revenue Code section 26 U.S.C. 501(c)(3) may submit proposals to cooperate with the Bureau in the administration and implementation of the FY2006 International Educators Program.

I. Funding Opportunity Description:

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

Overview: The new International Educators Program will bring outstanding secondary teachers from Southeast Asia, the Near East, South Asia (except Afghanistan) and Russia to the United States to further develop expertise in their subject areas, to enhance their teaching skills and to increase their knowledge about the United States. The goals of the program are: (1) To contribute to the improvement of teaching in the participating countries; (2) to provide opportunities for under-served populations, especially women, to have an important professional opportunity in the U.S. to enhance their ability to contribute to national development; (3) to create among key professionals and social influencers a deeper understanding of the U.S. who can share their experiences of living in a diverse democratic society with students and teachers in their home communities; and (4) to develop productive and lasting relationships and mutual understanding between American and international teachers and their students; and (5) to provide opportunities for under-served populations, especially women, to have a first-hand experience in the U.S. Participants will be younger teaching professionals with five or more years of classroom experience and a TOEFL score of 450 or higher on the written test (or the equivalent on the CBT). Teachers will be selected from many disciplines including English as a Foreign Language, social studies, civics, mathematics and science. Public Affairs Sections of U.S. Embassies or Fulbright Commissions, in collaboration with the Fulbright Teacher Exchange Branch (ECA/A/S/X), will coordinate the recruitment and nomination of candidates. Nominations will be submitted to the grantee organization, which will arrange for external professional selection panels to recommend candidates for the approval of the Bureau. ECA/A/S/X will approve the final list of grantees and will notify candidates of their status through the participating Fulbright Commissions and U.S. Embassies.

Proposals should include two distinct components: (1) The semester-long program from January to May/June 2007 and (2) the follow-on grants to program alumni. Please refer to the Project Objectives, Goals and Implementation (POGI) document for specific activities to be conducted beginning in late fall of 2006.

Semester Program: Serious attention needs to be paid to the program orientation and to the needs of teachers who may not have the advantages of teaching in large metropolitan areas with solid opportunities to develop high-level English skills. The semester-long program should take place from mid-January to May/June 2007. Teachers should be placed in four different clusters of approximately 12 to 14 individuals each at different U.S. universities that best meet their training needs. Teachers will be placed into different groups based on criteria to be determined after applications have been submitted. The semester program should encompass the following elements:

(1) Orientation upon arrival;

(2) Instruction in English language as needed;

(3) Training in the use of computers for Internet and word processing and as tools for teaching EFL or other coursework. Proposals should budget for a laptop computer for each participant;

(4) Intensive training in relevant subjects and teaching methodologies through a variety of courses within the host university's school of education or other departments (participants will select courses based on their individual goals and interests);

(5) Enrollment in a specially designed group seminar on teaching strategies for their home environments and educational leadership;

(6) Individual and group work periods for research and curriculum writing on EFL, civics, and other topics;

(7) Interaction with Americans at civic and volunteer organizations, school board meetings, parent-teacher conferences, or other community activities and through short home stays;

(8) Participation in a substantial six to eight week internship to engage participants actively with the American classroom environment.

a. Host universities should recruit school districts to host groups for internships based on brief proposals outlining the interest of the school districts, their understanding of the program goals, examples of their best practices, and a commitment to mentoring.

b. School districts should be within easy driving distance of the host university, and should be capable of introducing participants to more than one approach to teaching (for example, inquiry, active classroom, group projects, etc.).

c. Schools should designate an experienced mentor to oversee the day-to-day activities of each participant. Internship activities should include: observing a variety of teaching methods as well as computer-based lessons; working individually with a mentor teacher on curriculum development; and team teaching. Public, private, magnet or charter schools that have developed best practices may all be included.

(9) Cultural activities to encourage mutual understanding between participants and Americans, the mission of the Bureau of Educational and Cultural Affairs;

(10) Travel to Washington, DC during the second half of the program for a three- to four-day workshop including visits to the Department of State, cultural sites, and relevant educational organizations.

The Bureau of Educational and Cultural Affairs encourages partnership and collaboration with local school districts. Applicants should outline how host school districts will be selected and how teachers will collaborate with schools and local communities.

Follow-on Programming: American host secondary schools will be eligible to apply for follow-on grants after the program ends. Proposals for these grants should be submitted to the grantee organization by the U.S. host schools in collaboration with the participant's home school overseas. All proposals should be developed within the context of global and U.S. Embassy priorities. The proposals should encourage further cooperation between project participants and their U.S. schools to build on the semester-long stays in the U.S. For example, host teachers or administrators might travel to their foreign partner's home school for a short reciprocal exchange and/or take part in teacher-training programs for other foreign teachers/topics. U.S. host schools might propose Internet linkages between their school and their partner's school. No student exchanges will be funded. The proposal should outline a process for promoting the opportunity to U.S. host schools and for reviewing and selecting recipients of follow-on grants. Proposals should budget approximately $100,000 for this purpose. The process should include coordination with the Fulbright Teacher Exchange Branch and the U.S. Embassy or Fulbright Commission for review and approval. The Bureau will determine the final selection of grantees.

Program Planning and Implementation

Applicant organizations should submit a narrative outlining a comprehensive strategy for the administration and program implementation of the International Educators Program. The narrative should include a design for the semester-long program, a process for selecting host U.S. universities through sub-grants, a plan for monitoring the teachers' academic and professional programs, and an approach to alumni programming through follow-on grants.

The comprehensive program strategy should reflect a vision for the initiative as a whole, interpreting the goals of the International Educators Program with creativity, as well as providing innovative ideas for the program. The strategy should include a description of how the various components of the program will be integrated to build upon and reinforce one another.

In a cooperative agreement, the Fulbright Teacher Exchange Office (ECA/A/S/X) will be substantially involved in program activities in addition to routine grant monitoring. ECA/A/S/X activities and responsibilities for this program are as follows:

• Formulation of program policy;

• Reviewing of draft texts for publicity and program guidelines prior to publication;

• Cooperation in the development of plans for specific university-based programs and enhancement activities for the teachers such as the Washington, DC workshop;

• Applicant country eligibility and nomination guidelines.

II. Award Information

Type of Award: Cooperative Agreement. ECA's level of involvement in this program is listed under number I above.

Fiscal Year Funds: 2006.

Approximate Total Funding: $1,650,000.

Approximate Number of Awards: 1.

Approximate Average Award: Pending availability of funds, $1,650,000 million.

Anticipated Award Date: Pending availability of funds, December 1, 2005.

Anticipated Project Completion Date: September 30, 2008.

Additional Information: Pending successful implementation of this program and the availability of funds in subsequent fiscal years, it is ECA's intent to renew this grant for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition.

However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, applicants must maintain written records to support all costs, which are claimed as their contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Bureau grant guidelines require that organizations with less than four years experience in conducting international exchanges be limited to $60,000 in Bureau funding. ECA anticipates issuing one award, in an amount up to $1,650,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information To Request an Application Package

Please contact Patricia Mosley of the Fulbright Teacher Exchange Branch, ECA/A/S/X, Room 349, U.S. Department of State, SA-44, 301 4th Street, SW., Washington, DC 20547, telephone: (202) 619-4556, fax (202) 401-1433, e-mail: MosleyPJ@state.gov to request a Solicitation Package. Please refer to the Funding Opportunity Number ECA/A/S/X-06-03 when making your request.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package Via Internet

The entire Solicitation Package may be downloaded from the Bureau's Web site at http://exchanges.state.gov/education/rfgps/menu.htm. Please read all information before downloading.

IV.3 Content and Form of Submission

Applicants must follow all instructions in the Solicitation Package. The original and seven copies of the application should be sent per the instructions under IV.3e. “Submission Dates and Times section” below.

IV.3a.

You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b.

All proposals must contain an executive summary, proposal narrative and budget.

Please Refer to the Solicitation Package. It contains the mandatory Proposal Submission Instructions (PSI) document and the Project Objectives, Goals and Implementation (POGI) document for additional formatting and technical requirements.

IV.3c.

You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d.

Please take into consideration the following information when preparing your proposal narrative:

IV.3d.1. Adherence to all Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, recordkeeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810; FAX: (202) 401-9809.

Please refer to Solicitation Package for further information.

IV.3.d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3.d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, how and when you intend to measure these outcomes (performance indicators), and how these outcomes relate to the above goals. The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions of teachers to apply knowledge in home schools and community; interpretation and explanation of experiences and new knowledge gained to school administrators and other colleagues; continued contacts between participants and others.

4. Institutional changes influencing policy improvement, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

ECA/A/S/X and the Bureau's Office of Policy and Evaluation will work with the recipient of this cooperative agreement to develop appropriate evaluation goals and performance indicators.

Grantees will be required to provide reports analyzing their evaluation findings to the Bureau in their regular program reports. All data collected, including survey responses and contact information, must be maintained for a minimum of three years and provided to the Bureau upon request.

IV.3.d.4. Describe your Plans for Staffing: Please provide a staffing plan, which outlines the responsibilities of each staff person and explains which staff member will be accountable for each program responsibility. Wherever possible please streamline administrative processes.

IV.3e

Please take the following information into consideration when preparing your budget:

IV.3.e.1. Applicants must submit a comprehensive budget for the program. The budget should not exceed $1,650,000 for program and administrative costs. It should indicate the number of participants that can be accommodated at this funding level, based on detailed calculations of program and administrative costs. There must be a summary budget as well as breakdowns reflecting both administrative and program budgets for host campus and foreign teacher involvement in the program. Applicants should provide separate sub-budgets for the semester program and the follow-on grant component.

The summary and detailed administrative and program budgets should be accompanied by a narrative which provides a brief rationale for each line item including a methodology for estimating an appropriate average maintenance allowance level and tuition costs for the participants. The total administrative costs funded by the Bureau must be reasonable and appropriate. Pending the availability of funds, the grant should begin on December 1, 2005 and should expire on September 30, 2008.

IV.3.e.2. Allowable costs for the program and additional budget guidance are outlined in detail in the POGI document.

Please refer to the Solicitation Package for complete budget guidelines and formatting instructions.

IV.3f. Submission Dates and Times

Application Deadline Date: September 9, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered.

Applicants must follow all instructions in the Solicitation Package.

Important note: When preparing your submission please make sure to include one extra copy of the completed SF-424 form and place it in an envelope addressed to “ECA/EX/PM”.

The original and seven copies of the application should be sent to: U.S. Department of State, SA-44, Bureau of Educational and Cultural Affairs, Ref.: ECA/A/S/X-06-03, Program Management, ECA/EX/PM, Room 534, 301 4th Street, SW., Washington, DC 20547.

Along with the Project Title, all applicants must enter the above Reference Number in Box 11 on the SF-424 contained in the mandatory Proposal Submission Instructions (PSI) of the solicitation document. In addition, an electronic copy of the narrative and budget should be sent to Rozina Damanwala (DamanwalaRR@state.gov).

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria

Technically eligible applications will be competitively reviewed according to the criteria stated below. These criteria are not rank ordered and all carry equal weight in the proposal evaluation:

1. Program Development and Management: The proposed narrative should exhibit originality, substance, precision, and relevance to the Bureau's mission as well as the objectives of the International Educators Program. It should include an effective program plan and demonstrate how the distribution of administrative resources will ensure adequate attention to program administration, including host institution selection.

2. Multiplier Effect/Impact: The proposed administrative strategy should maximize the program's potential to encourage participants to build on the their exchange experience after returning to their home countries.

3. Support of Diversity: Proposals should demonstrate substantive support of the Bureau's policy on diversity. Achievable and relevant features should be cited in both program administration (selection of participants, program venue and program evaluation) and program content (resource materials and follow-up activities).

4. Institutional Capacity and Record: Proposals should demonstrate an institutional record of successful exchange programs, including responsible fiscal management and full compliance with all reporting requirements for past Bureau grants as determined by Bureau Grants Staff. Proposed personnel and institutional resources should be adequate and appropriate to achieve the program's goals.

5. Follow-on and Alumni Activities: Proposals should provide a plan for continued follow-on activity (both with and without Bureau support) ensuring that the International Educators Program is not an isolated event. Activities should include administration of the follow-on grants component, tracking and maintaining updated lists of all alumni and facilitating additional follow-up activities for alumni.

6. Project Evaluation: Proposals should include a plan and methodology to evaluate the International Educators Program's degree of success in meeting program objectives, both as the activities unfold and at their conclusion. Draft survey questionnaires or other techniques plus description of methodologies to use to link outcomes to original project objectives are recommended. Successful applicants will be expected to submit intermediate reports after each project component is concluded, or quarterly, whichever is less frequent.

7. Cost-effectiveness and Cost Sharing: The overhead and administrative components of the proposal, including salaries and honoraria, should be kept as low as possible. All other items should be necessary and appropriate. Proposals should maximize cost-sharing through other private sector support as well as institutional direct funding contributions.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants; http://exchanges.state.gov/education/grantsdiv/terms.htm#articleI.

VI.3. Reporting Requirements

You must provide ECA with a hard copy original plus one copy of the following reports:

Quarterly financial reports; semi-annual program reports; and final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Rozina Damanwala, Office of Global Educational Programs, ECA/A/S/X, Room 349, U.S. Department of State, SA-44, 301 4th Street, SW., Washington, DC 20547, telephone: 202-619-6589, fax 202-401-1433, DamanwalaRR@state.gov.

All correspondence with the Bureau concerning this RFGP should reference the title and number ECA/A/S/X-06-03. Please read the complete Federal Register announcement before sending inquiries or submitting proposals. Once the RFGP deadline has passed, Bureau staff may not discuss this competition with applicants until the proposal review process has been completed.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: July 5, 2005.
C. Miller Crouch,
Acting Assistant Secretary, Bureau of Educational and Cultural Affairs, Department of State.

[FR Doc. 05-13878 Filed 7-13-05; 8:45 am]

BILLING CODE 4710-05-P